DEPARTMENT OF STATE

[Public Notice: 9950]

Notice of Availability of the Supplemental Draft Environmental Impact Statement for the Foreign Missions Center at the Former Walter Reed Army Medical Center, Washington, DC

AGENCY: Department of State.

ACTION: Notice of availability.

SUMMARY: The U.S. Department of State (DOS) announces the availability of the Supplemental Draft Environmental Impact Statement (SDEIS) on the master plan for the long-term development of a Foreign Missions Center, under authorities of the Foreign Missions Act of 1982, on the site of the former Walter Reed Army Medical Center (WRAMC) in the District of Columbia. Actions evaluated in the master plan consist of assignment of federal land to foreign missions for the purpose of constructing and operating new chancery facilities. DOS has prepared this SDEIS on the alternatives considered for the master plan, consistent with the National Environmental Policy Act (NEPA) of 1969, as amended, regulations developed by the Council on Environmental Quality (40 CFR part 1500), and DOS regulations for implementing NEPA (22 CFR part 161).

The master plan is intended to guide the development of a cohesive campus by establishing design and land-use planning principles for the construction of new buildings, roadways, open green space, and utilities, while minimizing environmental impacts. The SDEIS analyzes the potential impacts associated with a no action alternative and an action alternative that could potentially satisfy the purpose and need defined in the SDEIS and master plan.

A Draft Environmental Impact Statement (DEIS) was previously circulated publicly in February 2014. Subsequent to the publication of the DEIS, the total acreage of the land available for transfer from the Army to DOS was reduced from 43.5 to 31.7 acres through the National Defense Authorization Act of 2015. Because of the change in the proposed action, DOS has prepared an SDEIS to describe the new preferred alternative, and evaluate any change in potential impacts from the reduction in size of the proposed action.

In addition, the DOS is carrying out the Section 106 review process under the National Historic Preservation Act of 1966, through which it consults with interested parties on the potential effect of the proposed undertaking on identified historic properties.

DATES: This notice announces the opening of the public comment process the DOS will use to gather input from the public on the proposed project. Please note that the public comment period will close on May 18, 2017.

ADDRESSES: Requests for information on the SDEIS should be directed to Geoffrey Hunt, Department of State, A/OPR/RPM, Room 1264, 2201 C St. NW., Washington, DC 20520-1264.

SUPPLEMENTARY INFORMATION: A “chancery” is the principal offices of a foreign mission used for diplomatic or related purposes, and annexes to such offices (including ancillary offices and support facilities), and includes the site and any buildings on the site which are used for such purposes. A “foreign mission” is any mission to or agency or entity in the United States which is involved in diplomatic, consular or other activities of, or which is substantially owned or effectively controlled by, a foreign government; or an organization representing a territory or political entity which has been granted diplomatic or other official privileges and immunities under the laws of the United States or which engages in some aspect of the conduct of international affairs of such territory or political entity, including any real property of such a mission and the personnel of such a mission.

The need for the project is based on increased and high demand for foreign mission facilities in the District of Columbia, a lack of large sites for foreign mission development or redevelopment in the District of Columbia, and the need for land to use in property exchanges with other countries. The proposed foreign missions center is needed to primarily address the increasing scarcity of suitable properties within the District of Columbia to locate the operations of foreign missions. This scarcity has impacted, in certain cases, the DOS's ability to acquire properties of considerable size in foreign capitals nations.

Alternatives Considered

The DOS identified, developed, and analyzed the No Action Alternative and seven action alternatives that could potentially satisfy the proposed action's purpose and need. One action alternative, Alternative 1, and the No Action Alternative, were retained for detailed study in the DEIS. Alternative 1 was dismissed from detailed study within the SDEIS because it is no longer viable given the change in total acreage required by the National Defense Authorization Act of 2015. DOS, in coordination with U.S. Commission of Fine Arts, the National Capital Planning Commission, The District of Columbia Historic Preservation Office, and District of Columbia Department of Transportation, then developed Alternative 7. Alternative 7 and the No Action Alternative were retained for detailed study within the SDEIS.

Alternative 7 would provide up to 15 lots for chancery development, retain the historic Memorial Chapel building for adaptive reuse, and potentially retain other buildings for adaptive reuse, depending on marketability. Dahlia Street and 14th Street would be developed as connections to the surrounding neighborhoods. The existing historic perimeter fence along 16th Street and Alaska Avenue would remain. The existing landscape on the western boundary of the site would be enhanced to create a 50-foot vegetated buffer, maximizing the tree canopy in that area. Access to individual lots would be internal to the former WRAMC campus.

The No Action Alternative was included to provide a basis for comparison to the action alternative described above as required by the NEPA regulations (40 CFR 1002.14(d)).

After careful consideration of the alternatives developed in response to the study's purpose and needs and in coordination with jurisdictional and interested agencies, DOS has identified Alternative 7 as its Preferred Action Alternative because it best satisfies the study purpose and needs, would fulfill their statutory mission and responsibilities, and has the least adverse environmental impact.

Public Comment/Distribution

You are encouraged to become involved in this process and provide your comments or concerns about the proposed project. The public comment period provides the public with an opportunity to present comments regarding the content and findings of the SDEIS for the Foreign Missions Center at the former Walter Reed Army Medical Center. The SDEIS is available to the public at the Web site: http://www.state.gov/ofm/property/fmc/index.htm. The DOS sends information related to this environmental review to individuals, organizations, and government entities interested in and/or potentially affected by the proposed project and maintains a distribution list for this purpose. The distribution list includes: Federal, state, and local government representatives and agencies; elected officials; environmental and public interest groups; other interested parties; and local libraries and newspapers. Copies are being distributed for public review at the Advisory Neighborhood Commission 4A and 4B offices, the Juanita E. Thornton-Shepherd Park Library, the Takoma Park Neighborhood Library, and the Petworth Neighborhood Library.

DOS invites individuals, organizations and agencies to submit comments. DOS requests comments on the SDEIS that focus on the potential environmental impacts of the proposed project, reasonable alternatives, and measures to further avoid or lessen environmental impacts. The public comment period starts with the publication of this notice in the Federal Register and will continue through May 18, 2017. DOS will consider and respond to comments received on the SDEIS in preparing the Final EIS. Comments may be submitted by email to: FMC.info@state.gov or by U.S. mail to: Geoffrey Hunt, Department of State, A/OPR/RPM, Room 1264, 2210 C St. NW., Washington, DC 20520-1264.

FOR FURTHER INFORMATION CONTACT: Geoffrey Hunt by email at FMC.info@state.gov.

Cliff C. Seagroves,
Director of the Office of Foreign Missions, Department of State.

[FR Doc. 2017-06789 Filed 4-5-17; 8:45 am]

BILLING CODE 4710-43-P